INTERNATIONAL TRADE COMMISSION

[Investigation Nos. 701-TA-575 and 731-TA-1360-1361 (Review)]

Tool Chests and Cabinets From China and Vietnam

Determinations

On the basis of the record ¹ developed in the subject five-year reviews, the United States International Trade Commission (“Commission”) determines, pursuant to the Tariff Act of 1930 (“the Act”), that revocation of the countervailing duty order on tool chests and cabinets from China and revocation of the antidumping duty orders on tool chests and cabinets from China and Vietnam would be likely to lead to continuation or recurrence of material injury to an industry in the United States within a reasonably foreseeable time.

¹ The record is defined in § 207.2(f) of the Commission's Rules of Practice and Procedure (19 CFR 207.2(f)).

Background

The Commission instituted these reviews on December 1, 2022 (87 FR 73786) and determined on March 6, 2023 that it would conduct expedited reviews (88 FR 23464, April 17, 2023).

The Commission made these determinations pursuant to section 751(c) of the Act (19 U.S.C. 1675(c)). It completed and filed its determinations in these reviews on June 30, 2023. The views of the Commission are contained in USITC Publication 5445 (June 2023), entitled Tool Chests and Cabinets from China and Vietnam: Investigation Nos. 701-TA-575 and 731-TA-1360-1361 (Review).

By order of the Commission.
Issued: June 30, 2023.
Lisa Barton,
Secretary to the Commission.

[FR Doc. 2023-14302 Filed 7-6-23; 8:45 am]

BILLING CODE 7020-02-P